DEPARTMENT OF TRANSPORTATION

Federal Railroad Administration

Petition for Waiver of Compliance

In accordance with Part 211 of Title 49 of the Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

City of Placentia, California

[Docket Number FRA-2006-24654]

The City of Placentia, California (City) and BNSF Railway Company (BNSF) have petitioned for a second extension to the waiver granted on June 21, 2006, in FRA Docket No. FRA-2006-24654. In the June 21, 2006 waiver, FRA agreed to extend the original deadline of June 24, 2006, set forth in 49 CFR 222.42 for continuation of an intermediate partial quiet zone until September 22, 2006. Subsequently, FRA received a waiver requesting an extension of September 22, 2006, to January 20, 2007, from the parties. FRA granted this extension on September 21, 2006. In this current request, the City and BNSF state that they will be unable to meet the January 20, 2007, deadline due to technical problems with the radio communications system that required the ordering of new radio equipment and the need to conduct a 30-day test period of the radio communications system. The City and BNSF seek to retain the current partial quiet zone in order to avoid disruption and confusion in the interim and state that safety will not be compromised.

Interested parties are invited to participate in these proceedings by submitting written views, data or comments. Each comment shall specifically set forth the basis upon which it is made and contain a concise statement of the interest of the commenter in the proceeding. FRA does not anticipate the need to schedule a public hearing in connection with this proceeding since the facts do not appear to warrant a hearing. If any interested party desires an opportunity to comment, they should notify FRA in writing within 15 days of the date of publication of this notice and specify the basis for their request.

All communications concerning these proceedings should identify the docket number set forth above and may be submitted by any of the following methods:

• Web site: http://dms.dot.gov. Follow the instructions for submitting comments on the DOT electronic docket site.

• Fax: 202-493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays. to the Docket Clerk, DOT Docket Management Facility, Room PL-401 (Plaza Level), 400 7th Street, SW., Washington, DC 20590. Communications received within 15 days of the date of this notice will be considered by FRA before final action is taken. Comments received after that date will be considered as far as practicable. FRA reserves the right to grant temporary relief to avoid lapse of the existing partial quiet zone while the comment period is open, after consideration of any comments filed prior to the initial date of decision. All written communications concerning this proceeding are available for examination during regular business hours (9 a.m.-5 p.m.) at the above facility. All documents in the public docket are available for inspection and copying on the Internet at the docket facility's Web site: http://dms.dot.gov.

Anyone is able to search the electronic form of all comments received into any of our dockets by the name of the individual submitting the comment (or signing the comment, if submitted on behalf of an association, business, labor union, etc.). You may review the Department of Transportation's complete Privacy Act Statement, which was published in the Federal Register on April 11, 2000 (Volume 65, Number 70; Pages 19477-78). The Privacy Act Statement may also be found at http://dms.dot.gov.

Issued in Washington, DC on January 9, 2007.
Michael Logue,
Deputy Associate Administrator, for Safety Compliance and Program Implementation.

[FR Doc. E7-319 Filed 1-11-07; 8:45 am]

BILLING CODE 4910-06-P